DEPARTMENT OF TRANSPORTATION

Federal Aviation Administration

RTCA Special Committee 193/EUROCAE Working Group 44; Terrain and Airport Databases

Pursuant to section 10(a)(2) of the Federal Advisory Committee Act (Pub. L. 92-463, 5 U.S.C., Appendix 2), notice is hereby given for a Special Committee 193/EUROCAE Working Group 44 meeting to be held September 25-29, 2000, starting at 9 a.m. The meeting will be held at STNA (Service Technique de la Navigation Aerie) 1, Av.Du Dr. Maurice Grynfogel, 31035 Toulouse, Cedex, France.

The agenda will include: September 25: Opening Plenary Session: (1) Welcome and Introductory Remarks; (2) Review/Approval of Meeting Agenda; (3) Review Summary of the Previous Meeting; (4) Presentation: “In-flight DEM Integrity Monitoring”; (5) Subgroup 2, Terrain and Obstacle Databases and Subgroup 3 (Airport Databases); (6) Review Summary of the Previous Meeting; (7) Review Actions the Previous Meeting; (8) Review of the Draft Document; September 26 and 27: (9) Continue Subgroups 2 and 3 Discussion; September 28: Plenary Session: (10) Presentation/Discussion; (11) Continue Subgroups 2 and 3 Discussion; September 29: (12) Continue Subgroup 2 and 3 Discussion, as required; (13) Closing Plenary Session: (14) Summary of Subgroup 2 and 3 meetings; (15) Review Action Items; (16) Other Business; (17) Date and Location of Next Meeting; (18) Closing.

Attendance is open to the interested public but limited to space availability. With the approval of the chairmen, members the public may present oral statements at the meeting. Persons wishing to present statements or obtain information should contact the RTCA Secretariat, 1140 Connecticut Avenue, NW., Washington, DC, 20036; (202) 833-9339 (phone), (202) 833-9434 (fax), or http://www.rtca.org (web site) or the on-site contact: Mr. Philippe Caisso, at 011-33-5-62-14-58-59 (phone), 011-33-5-62-14-58-53 (fax) or email CAISSOPhilippe@stna.dgac.fr. Members of the public may present a written statement to the committee at any time.

Issued in Washington, DC, on August 30, 2000.
Janice L. Peters,
Designated Official.

[FR Doc. 00-23180 Filed 9-8-00; 8:45 am]

BILLING CODE 4910-13-M